DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date.

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On April 6, 2021, OFAC determined that the property and interests in property subject to U.S. jurisdiction of the following persons are blocked under the relevant sanctions authority listed below.

Individuals

1. CHACON MIRANDA, Alejandro, Avenida Lopez Mateos Sur 4000, Fraccionamiento San Martin del Tajo, Interior Calle Camino del Azteca 121, Tlajomulco de Zuniga, Jalisco, Mexico; Calle Coral 2623, Fraccionamiento Residencial Victoria, Guadalajara, Jalisco, Mexico; DOB 22 Jul 1985; POB Ziracuaretiro, Michoacan, Mexico; nationality Mexico; Gender Male; C.U.R.P. CAMA850722HMNHRL02 (Mexico) (individual) [SDNTK]. Designated pursuant to section 805(b)(2) of the Foreign Narcotics Kingpin Designation Act (Kingpin Act), 21 U.S.C. 1904(b)(2), for materially assisting in, or providing financial or technological support for or to, or providing goods or services in support of, the CARTEL DE JALISCO NUEVA GENERACION (CJNG) [SDNTK].

2. GUDINO HARO, Francisco Javier (Latin: GUDIÑO HARO, Francisco Javier) (a.k.a. “La Gallina”), Puerto Vallarta, Jalisco, Mexico; Guadalajara, Jalisco, Mexico; DOB 29 Feb 1988; POB Guadalajara, Jalisco, Mexico; nationality Mexico; Gender Male; C.U.R.P. GUHF880229HJCDRR07 (Mexico) (individual) [SDNTK]. Designated pursuant to section 805(b)(2) of the Kingpin Act, 21 U.S.C. 1904(b)(2), for materially assisting in, or providing financial or technological support for or to, or providing goods or services in support of, CJNG [SDNTK].

3. RIVERA VARELA, Carlos Andres (a.k.a. “La Firma”), Puerto Vallarta, Jalisco, Mexico; DOB 19 Jun 1986; POB Cali, Valle, Colombia; nationality Mexico; alt. nationality Colombia; Gender Male; Cedula No. 1130648070 (Colombia); C.U.R.P. RIVC860619HNEVRR04 (Mexico) (individual) [SDNTK]. Designated pursuant to section 805(b)(2) of the Kingpin Act, 21 U.S.C. 1904(b)(2), for materially assisting in, or providing financial or technological support for or to, or providing goods or services in support of, CJNG [SDNTK].

Entities

1. AGRICOLA COSTA ALEGRE S.P.R. DE R.L., Puerto Vallarta, Jalisco, Mexico; SRE Permit No. A201611021236510536 (Mexico) [SDNTK]. Designated pursuant to section 805(b)(3) of the Kingpin Act, 21 U.S.C. 1904(b)(3), for being owned, controlled, or directed by, or acting for or on behalf of, Francisco Javier GUDINO HARO [SDNTK].

2. DALE TOURS, S.A. DE C.V., Calle Labna #1437, Local Interior 6, Jardines del Sol, Zapopan, Jalisco C.P. 45050, Mexico; Coral 2623, Colonia Residencial Victoria, Guadalajara, Jalisco C.P. 44560, Mexico; website http://daletours.com; R.F.C. DTO090601K40 (Mexico) [SDNTK]. Designated pursuant to section 805(b)(3) of the Kingpin Act, 21 U.S.C. 1904(b)(3), for being owned, controlled, or directed by, or acting for or on behalf of, Alejandro CHACON MIRANDA [SDNTK].

Dated: April 6, 2021.
Bradley T. Smith,
Acting Director, Office of Foreign Assets Control, U.S. Department of the Treasury.

[FR Doc. 2021-07327 Filed 4-8-21; 8:45 am]

BILLING CODE 4810-AL-P